DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Chowan County, North Carolina and Incorporated Areas
Docket Nos.: FEMA-D-7820, FEMA-D-7578, and FEMA-B-7736
Burnt Mill Creek | At a point just upstream of Burnt Mill Road | +6 | Unincorporated Areas of Chowan County.
| Approximately 1,000 feet upstream of U.S. Highway 17 | +13
Filberts Creek | Approximately 250 feet downstream of Virginia Road/NC Highway 32 | +7 | Town of Edenton.
| Approximately 1,120 feet upstream of Virginia Road/NC Highway 32 | +14
Goodwin Mill Creek | Approximately 1.7 miles upstream of Center Hill Road | +14 | Unincorporated Areas of Chowan County.
| At Center Hill Road | +14
Northeast Tributary of Queen Anne Creek | At the confluence with Queen Anne Creek | +7 | Unincorporated Areas of Chowan County.
| Approximately 920 feet upstream of the confluence with Northeast Tributary of Queen Anne Creek Tributary 1 | +12
Northeast Tributary of Queen Anne Creek Tributary 1 | At the confluence with Northeast Tributary of Queen Anne Creek | +8 | Unincorporated Areas of Chowan County.
| Approximately 1,150 feet upstream of the confluence with Northeast Tributary of Queen Anne Creek | +14
Northwest Tributary of Queen Anne Creek | At the confluence with Queen Anne Creek | +7 | Unincorporated Areas of Chowan County, Town of Edenton.
| Approximately 80 feet downstream of Railroad | +16
Pembroke Creek | At Wildcat Road (State Road 1208) | +7 | Unincorporated Areas of Chowan County.
| Approximately 1.2 miles upstream of the confluence with Pembroke Creek Tributary 8 | +13
Pembroke Creek Tributary 1 | Approximately 0.5 mile upstream of the confluence with Pembroke Creek | +8 | Unincorporated Areas of Chowan County.
| Approximately 330 feet downstream of VS Road/NC Highway 32 | +16
Pembroke Creek Tributary 2 | At the confluence with Pembroke Creek | +7 | Unincorporated Areas of Chowan County.
| Approximately 0.4 mile upstream of the confluence with Pembroke Creek | +8
Pembroke Creek Tributary 3 | At the confluence with Pembroke Creek | +7 | Unincorporated Areas of Chowan County.
| Approximately 0.5 mile upstream of the confluence with Pembroke Creek | +8
Pembroke Creek Tributary 4 | At the confluence with Pembroke Creek | +7 | Unincorporated Areas of Chowan County.
| Approximately 1.4 miles upstream of Greenhall Road (State Road 1316) | +15
Pembroke Creek Tributary 5 | At the confluence with Pembroke Creek | +8 | Unincorporated Areas of Chowan County.
| Approximately 0.6 mile upstream of Greenhall Road (State Road 1316) | +13
Pembroke Creek Tributary 6 | At the confluence with Pembroke Creek | +10 | Unincorporated Areas of Chowan County.
| Approximately 1,620 feet upstream of the confluence with Pembroke Creek | +11
Pembroke Creek Tributary 7 | At the confluence with Pembroke Creek | +11 | Unincorporated Areas of Chowan County.
| Approximately 1,700 feet upstream of the confluence with Pembroke Creek | +11
Pembroke Creek Tributary 8 | At the confluence with Pembroke Creek | +12 | Unincorporated Areas of Chowan County.
| Approximately 0.5 mile upstream of the confluence with Pembroke Creek Tributary 8A | +12
Pembroke Creek Tributary 8A | At the confluence with Pembroke Creek Tributary 8 | +12 | Unincorporated Areas of Chowan County.
| Approximately 0.5 mile upstream of the confluence with Pembroke Creek Tributary 8 | +12
Queen Anne Creek | Just downstream of Paxton Lane | +6 | Unincorporated Areas of Chowan County, Town of Edenton.
| Approximately 490 feet upstream of U.S. 17 BYP | +15
Rockyhock Creek | At Rocky Hock Road (State Road 1222) | +7 | Unincorporated Areas of Chowan County.
| Approximately 0.8 mile upstream of NC Highway 32 | +29
Rockyhock Creek Tributary 1 | At the confluence with Rockyhock Creek | +7 | Unincorporated Areas of Chowan County.
| Approximately 0.6 mile upstream of the confluence with Rockyhock Creek | +9
Rockyhock Creek Tributary 2 | At the confluence with Rockyhock Creek | +8 | Unincorporated Areas of Chowan County.
| Approximately 0.9 mile upstream of the confluence with Rockyhock Creek | +9
Rockyhock Creek Tributary 3 | At the confluence with Rockyhock Creek | +11 | Unincorporated Areas of Chowan County.
| Approximately 0.8 mile upstream of Rocky Hock Landing Road (State Road 1224) | +15
Rockyhock Creek Tributary 3A | At the confluence with Rockyhock Creek Tributary 3 | +11 | Unincorporated Areas of Chowan County.
| Approximately 0.6 mile upstream of the confluence with Rockyhock Creek Tributary 3 | +15
Rockyhock Creek Tributary 4 | At the confluence with Rockyhock Creek | +11 | Unincorporated Areas of Chowan County.
| Approximately 100 feet downstream of Nixon Road (State Road 1225) | +14
Rockyhock Creek Tributary 5 | At the confluence with Rockyhock Creek | +11 | Unincorporated Areas of Chowan County.
| Approximately 350 feet downstream of Cisco Road (State Road 1314) | +36
Rockyhock Creek Tributary 5A | At the confluence with Rockyhock Creek Tributary 5 | +20. | Unincorporated Areas of Chowan County.
| Approximately 0.5 mile upstream of the confluence with Rockyhock Creek Tributary 5 | +25
Rockyhock Creek Tributary 6 | At the confluence with Rockyhock Creek | +12 | Unincorporated Areas of Chowan County.
| Approximately 0.4 mile upstream of Rocky Hock Landing Road (State Road 1224) | +15
Rockyhock Creek Tributary 7 | At the confluence with Rockyhock Creek | +15 | Unincorporated Areas of Chowan County.
| Approximately 0.8 mile upstream of the confluence with Rockyhock Creek | +18
Rockyhock Creek Tributary 8 | At the confluence with Rockyhock Creek | +15 | Unincorporated Areas of Chowan County.
| Approximately 150 feet downstream of NC Highway 32 | +22
* National Geodetic Vertical Datum.
+ North American Vertical Datum.
# Depth in feet above ground.
ADDRESSES
Town of Edenton
Maps are available for inspection at Edenton Town Hall, 400 South Broad Street, Edenton, North Carolina.
Unincorporated Areas of Chowan County
Maps are available for inspection at Chowan County Planning Department, 108 East King Street, Edenton, North Carolina.
Union County, North Carolina and Incorporated Areas
Docket No.: FEMA-D-7668 and FEMA-D-7808
Adams Branch | At the confluence with Richardson Creek | +540 | Unincorporated Areas of Union County.
| Approximately 0.5 mile upstream of Richardson Road (SR 2158) | +629
Adams Branch Tributary 1 | At the confluence with Adams Branch | +569 | Unincorporated Areas of Union County.
| Approximately 0.6 mile upstream of the confluence with Adams Branch | +602
Austin Branch | At the confluence with Salem Creek | +486 | Unincorporated Areas of Union County.
| Approximately 0.6 mile upstream of Austin Grove Church Road (SR 1751) | +580
Barkers Branch | At the confluence with Lanes Creek | +430 | Unincorporated Areas of Union County.
| Approximately 1,990 feet upstream of Tanner Road (SR 1935) | +531
Bates Branch | At the confluence with East Fork Twelvemile Creek | +526 | Unincorporated Areas of Union County, Town of Mineral Springs.
| Approximately 150 feet downstream of McNeely Road | +603
Bearskin Creek | Approximately 1,900 feet upstream of the confluence with Richardson Creek | +485 | Unincorporated Areas of Union County, City of Monroe.
| Approximately 360 feet upstream of Price Short Cut Road (SR 1351) | +636
Beaverdam Creek | At the confluence with Lanes Creek | +413 | Unincorporated Areas of Union County.
| Approximately 1.2 miles upstream of Russell Pope Road (SR 1948) | +571
Beaverdam Creek (West) | At the confluence with Richardson Creek | +520 | Unincorporated Areas of Union County.
| Approximately 0.6 mile upstream of Parks McCorkle Road (SR 1152) | +651
Beaverdam Creek Tributary 1 | At the confluence with Beaverdam Creek | +460 | Unincorporated Areas of Union County.
| Approximately 0.8 mile upstream of Doctor Blair Road (SR 1902) | +498
Beaverdam Creek Tributary 1A | At the confluence with Beaverdam Creek Tributary 1 | +462 | Unincorporated Areas of Union County.
| Approximately 0.5 mile upstream of the confluence with Beaverdam Creek Tributary 1 | +492
Beaverdam Creek Tributary 1B | At the confluence with Beaverdam Creek Tributary 1 | +464 | Unincorporated Areas of Union County.
| Approximately 1,570 feet upstream of the confluence of Beaverdam Creek Tributary 1B1 | +484
Beaverdam Creek Tributary 1B1 | At the confluence with Beaverdam Creek Tributary 1B | +473 | Unincorporated Areas of Union County.
| Approximately 0.4 mile upstream of the confluence with Beaverdam Creek Tributary 1B | +483
Beaverdam Creek Tributary 2 | At the confluence with Beaverdam Creek | +467 | Unincorporated Areas of Union County.
| Approximately 0.7 mile upstream of the confluence with Beaverdam Creek | +503
Becky Branch | At the confluence with Salem Creek | +440 | Unincorporated Areas of Union County.
| Approximately 0.9 mile upstream of the confluence of Becky Branch Tributary 2 | +500
Becky Branch Tributary 1 | At the confluence with Becky Branch | +440 | Unincorporated Areas of Union County.
| Approximately 0.4 mile upstream of Old Lawyers Road (SR 1736) | +491
Becky Branch Tributary 2 | At the confluence with Becky Branch | +465 | Unincorporated Areas of Union County.
| Approximately 280 feet upstream of Old Lawyers Road (SR 1736) | +510
Blue Branch | At the confluence with Cane Creek | +510 | Unincorporated Areas of Union County.
| Approximately 0.4 mile upstream of Bud Huey Road (State Route 115) | +549
Blythe Creek | At the confluence with East Fork Twelvemile Creek | +510 | Unincorporated Areas of Union County.
| Approximately 1.0 mile upstream of Waxhaw Highway | +607
Blythe Creek Tributary | At the confluence with Blythe Creek | +554 | Unincorporated Areas of Union County.
| Approximately 0.4 mile upstream of the confluence with Blythe Creek | +564
Booger Branch | At the confluence with Cane Creek | +514 | Unincorporated Areas of Union County.
| Approximately 0.7 mile upstream of the confluence with Booger Branch Tributary 2 | +577
Booger Branch Tributary 1 | At the confluence with Booger Branch | +514 | Unincorporated Areas of Union County.
| Approximately 0.8 mile upstream of Bud Huey Road (State Route 1115) | +561
Booger Branch Tributary 2 | At the confluence with Booger Branch | +550 | Unincorporated Areas of Union County.
| Approximately 1.4 miles upstream of the confluence with Booger Branch | +611
Brandon Branch | At the confluence with Gold Branch | +439 | Unincorporated Areas of Union County.
| Approximately 950 feet upstream of Sugar and Wine Road (SR 1649) | +518
Brown Creek | Approximately 0.5 mile downstream of the Anson/Union County boundary | +326 | Unincorporated Areas of Union County, City of Monroe.
| Approximately 1.1 miles upstream of Canal Road (SR 1919) | +374
Brown Creek Tributary 5 | At the confluence with Brown Creek | +331 | Unincorporated Areas of Union County.
| Approximately 640 feet upstream of Zion Church Road | +354
Brown Creek Tributary 6 | At the confluence with Brown Creek | +337 | Unincorporated Areas of Union County.
| Approximately 980 feet upstream of Zion Church Road | +379
Buck Branch | At the confluence with Little Richardson Creek | +503 | Unincorporated Areas of Union County.
| Approximately 950 feet downstream of Magnum Dairy Road (SR 2108) | +599
Buffalo Creek | At the North Carolina/South Carolina State boundary | +501 | Unincorporated Areas of Union County.
| Approximately 0.9 mile upstream of Jack Davis Road (SR 2125) | +631
Buffalo Creek Tributary 1 | At the confluence with Buffalo Creek | +502 | Unincorporated Areas of Union County.
| Approximately 1,370 feet upstream of Trinity Church Road (SR 2153) | +594
Bull Branch | At the confluence with Richardson Creek | +425 | Unincorporated Areas of Union County.
| Approximately 1.2 miles upstream of Olive Branch Road (SR 1006) | +510
Camp Branch | At the confluence with Bearskin Creek | +585 | Unincorporated Areas of Union County, City of Monroe.
| Approximately 1,500 feet upstream of Weddington Road | +611
Cane Creek | Approximately 300 feet downstream of the Lancaster County, South Carolina/Union County, North Carolina State boundary | +502 | Unincorporated Areas of Union County.
| Approximately 250 feet upstream of Rocky River Road (State Route 522) | +647
Cane Creek Tributary 1 | At the confluence with Cane Creek | +562 | Unincorporated Areas of Union County.
| Approximately 1.1 miles upstream of Cane Creek Road (State Route 1221) | +612
Cane Creek Tributary 2 | At the confluence with Cane Creek | +580 | Unincorporated Areas of Union County.
| Approximately 0.6 mile upstream of the confluence with Cane Creek | +607
Cane Creek Tributary 3 | At the confluence with Cane Creek | +586 | Unincorporated Areas of Union County.
| Approximately 0.6 mile upstream of the confluence with Cane Creek | +604
Carolina Creek | At the confluence with Lanes Creek | +469 | Unincorporated Areas of Union County.
| Approximately 0.7 mile upstream of Van Sneed Road (SR 1925) | +548
Cedar Branch | At the confluence with Lanes Creek | +446 | Unincorporated Areas of Union County.
| Approximately 0.6 mile upstream of the confluence with Lanes Creek | +485
Chinkapin Creek | At the confluence with Stewarts Creek | +492 | Unincorporated Areas of Union County, Town of Unionville.
| Approximately 820 feet upstream of Tom Helms Road | +551
Chinkapin Creek Tributary 1 | At the confluence with Chinkapin Creek | +505 | Town of Unionville.
| Approximately 0.8 mile upstream of the confluence with Chinkapin Creek | +550
Chinkapin Creek Tributary 2 | At the confluence with Chinkapin Creek | +515 | Town of Unionville.
| Approximately 900 feet upstream of Skies Mill Road | +570
Chinkapin Creek Tributary 2A | At the confluence with Chinkapin Creek Tributary 2 | +523 | Town of Unionville.
| Approximately 0.5 mile upstream of Unionville Road | +568
Clear Creek | At the confluence with Rocky River | +469 | Town of Fairview.
| Approximately 1,400 feet upstream of the confluence of Long Branch | +486
Cool Spring Branch | At the confluence with Lanes Creek | +437 | Unincorporated Areas of Union County.
| Approximately 1.4 miles upstream of White Store Road (SR 1003) | +476
Cowhorn Branch | At the confluence with Tarkill Branch | +552 | Unincorporated Areas of Union County, Village of Marvin.
| Approximately 0.4 mile upstream of Waxhaw Marvin Road (State Route 1307) | +572
Cowpens Branch | At the confluence with Wicker Branch | +539 | Unincorporated Areas of Union County.
| Approximately 0.9 mile upstream of Medlin Road (SR 2102) | +608
Crisco Branch | At the confluence with Rocky River | +348 | Unincorporated Areas of Union County.
| Approximately 1.5 miles upstream of the confluence with Rocky River | +436
Crooked Creek | At the confluence with Rocky River | +426 | Unincorporated Areas of Union County, Town of Fairview.
| At the confluence of North Fork Crooked Creek and South Fork Crooked Creek | +570
Crooked Creek Tributary 1 | At the confluence with Crooked Creek | +565 | Town of Fairview, Town of Unionville.
| Approximately 0.4 mile upstream of Clontz Long Road | +592
Culvert Branch | Approximately 700 feet upstream of the confluence with West Fork Twelvemile Creek | +558 | Unincorporated Areas of Union County.
| Approximately 1,000 feet upstream of Timber Lane | +647
Davis Branch | At the confluence with Waxhaw Creek | +512 | Unincorporated Areas of Union County.
| Approximately 1.5 miles upstream of the confluence with Davis Branch Tributary 1 | +584
Davis Branch Tributary 1 | At the confluence with Davis Branch | +535 | Unincorporated Areas of Union County.
| Approximately 1.5 miles upstream of the confluence with Davis Branch | +614
Davis Mine Creek | Approximately 120 feet downstream of Waxhaw-Indian Trail Road | +601 | Unincorporated Areas of Union County, Village of Wesley Chapel, Town of Indian Trail, Town of Stallings, Town of Weddington.
| Approximately 650 feet upstream of Lakewood Drive | +722
Davis Mine Creek Tributary 1 | At the confluence with Davis Mine Creek | +649 | Town of Indian Trail.
| Approximately 1,500 feet upstream of McLendon Road | +682
Dry Fork | At the confluence with Bearskin Creek | +581 | City of Monroe.
| Approximately 1,300 feet upstream of North Rocky Road (SR 1007) | +638
Duck Creek | At the confluence with Goose Creek | +468 | Unincorporated Areas of Union County, Town of Fairview.
| Approximately 0.8 mile upstream of the confluence with Duck Creek Tributary 3 | +575
Duck Creek Tributary 1 | At the confluence with Duck Creek | +483 | Town of Fairview.
| Approximately 0.4 mile upstream of the confluence with Duck Creek | +496
Duck Creek Tributary 2 | At the confluence with Duck Creek | +509 | Town of Fairview.
| Approximately 60 feet downstream of Crowell Dairy Road | +560
Duck Creek Tributary 3 | At the confluence with Duck Creek | +537 | Unincorporated Areas of Union County.
| Approximately 0.7 mile upstream of Rock Hill Church Road (SR 1539) | +614
East Fork Stewarts Creek | Approximately 110 feet upstream of the confluence with Stewarts Creek | +537 | Unincorporated Areas of Union County, Town of Unionville.
| Approximately 1.2 miles upstream of the confluence of East Fork Stewarts Creek Tributary 1 | +597
East Fork Stewarts Creek Tributary 1 | At the confluence with East Fork Stewarts Creek | +572 | Unincorporated Areas of Union County, Town of Unionville.
| Approximately 1,840 feet upstream of the confluence of East Fork Stewarts Creek Tributary 1A | +586
East Fork Stewarts Creek Tributary 1A | At the confluence with East Fork Stewarts Creek Tributary 1 | +578 | Unincorporated Areas of Union County.
| Approximately 680 feet upstream of the confluence with East Fork Stewarts Creek Tributary 1 | +590
East Fork Twelvemile Creek | Approximately 0.4 mile upstream of the confluence with Twelvemile Creek and West Fork Twelvemile Creek | +510 | Unincorporated Areas of Union County, Village of Wesley Chapel, Town of Indian Trail, Town of Mineral Springs, Town of Waxhaw.
| Approximately 1,710 feet upstream of Grayson Parkway | +621
East Fork Twelvemile Creek Tributary 1 | At the confluence with East Fork Twelvemile Creek | +520 | Unincorporated Areas of Union County, Village of Wesley Chapel.
| Approximately 735 feet upstream of Farm Creek Road | +560
East Fork Twelvemile Creek Tributary 2 | At the confluence with East Fork Twelvemile Creek | +522 | Unincorporated Areas of Union County, Village of Wesley Chapel.
| Approximately 1.1 miles upstream of the confluence with East Fork Twelvemile Creek | +545
East Fork Twelvemile Creek Tributary 3 | At the confluence with East Fork Twelvemile Creek | +562 | Unincorporated Areas of Union County, City of Monroe, Village of Wesley Chapel.
| Approximately 1,300 feet upstream of Sanford Lane (State Route 1394) | +650
East Fork Twelvemile Creek Tributary 4 | At the confluence with East Fork Twelvemile Creek | +583 | Village of Wesley Chapel, Town of Indian Trail.
| Approximately 1.2 miles upstream of Mayflower Trail | +620
East Fork Twelvemile Creek Tributary 5 | At the confluence with East Fork Twelvemile Creek | +597 | Unincorporated Areas of Union County, City of Monroe, Town of Indian Trail.
| Approximately 725 feet downstream of Capital Drive | +639
East Fork Twelvemile Creek Tributary 6 | At the confluence with East Fork Twelvemile Creek | +610 | Unincorporated Areas of Union County, Town of Indian Trail.
| Approximately 0.5 mile upstream of the confluence with East Fork Twelvemile Creek | +629
Flag Branch | At the confluence with Chinkapin Creek | +494 | Unincorporated Areas of Union County, Town of Unionville.
| Approximately 180 feet upstream of Morgan Mill Road | +524
Gibbs Branch | At the confluence with Mill Creek (South) | +519 | Unincorporated Areas of Union County.
| Approximately 230 feet upstream of Arant Road (SR 2117) | +555
Glen Branch | At the confluence with Waxhaw Creek | +592 | Unincorporated Areas of Union County.
| Approximately 0.6 mile upstream of Nesbit Road (State Route 1131) | +633
Gold Branch | At the confluence with Richardson Creek | +396 | Unincorporated Areas of Union County.
| Approximately 0.9 mile upstream of New Salem Road (SR 1627) | +506
Gold Branch (East) | At the confluence with Grapevine Creek | +449 | Unincorporated Areas of Union County.
| Approximately 0.5 mile upstream of Marshville Olive Branch Road (SR 1719) | +503
Goose Creek | At the confluence with Rocky River | +466 | Unincorporated Areas of Union County, Town of Fairview, Town of Indian Trail, Town of Stallings.
| At the Mecklenburg/Union County boundary | +626
Goose Creek Tributary 1 | At the confluence with Goose Creek | +468 | Town of Fairview.
| Approximately 50 feet downstream of Roy Kindley Road | +524
Goose Creek Tributary 2 | At the confluence with Goose Creek | +520 | Town of Fairview.
| Approximately 0.6 mile upstream of the confluence with Goose Creek | +536
Goose Creek Tributary 3 | Approximately 800 feet upstream of the confluence with Goose Creek | +540 | Unincorporated Areas of Union County, Town of Indian Trail.
| Approximately 0.7 mile upstream of the confluence with Goose Creek | +556
Goose Creek Tributary 4 | Approximately 350 feet upstream of the confluence with Goose Creek | +593 | Town of Indian Trail, Town of Stallings.
| Approximately 1.4 miles upstream of the confluence with Goose Creek | +660
Grapevine Creek | At the confluence with Richardson Creek | +360 | Unincorporated Areas of Union County.
| Approximately 1.3 miles upstream of the confluence of Gold Branch (East) | +495
Grapevine Creek Tributary 1 | At the confluence with Grapevine Creek | +418 | Unincorporated Areas of Union County.
| Approximately 530 feet upstream of Lucy Short Cut Road (SR 1745) | +459
Grapevine Creek Tributary 2 | At the confluence with Grapevine Creek | +434 | Unincorporated Areas of Union County.
| Approximately 0.6 mile upstream of the confluence with Grapevine Creek | +479
Grassy Branch | At the confluence with Crooked Creek | +518 | Unincorporated Areas of Union County, Town of Fairview, Town of Unionville.
| Approximately 390 feet upstream of West Lawyers Road (SR 1675) | +614
Grassy Branch Tributary 1 | At the confluence with Grassy Branch | +549 | Town of Unionville.
| Approximately 1,520 feet upstream of Unionville Road | +569
Grassy Creek | At the confluence with Rocky River | +374 | Unincorporated Areas of Union County.
| Approximately 0.6 mile upstream of Braswell-Rushing Road | +566
Grassy Creek Tributary 1 | At the confluence with Rocky River | +459 | Unincorporated Areas of Union County.
| Approximately 550 feet upstream of Morgan Mill Road | +502
Grassy Creek Tributary 2 | At the confluence with Grassy Creek | +498 | Unincorporated Areas of Union County.
| Approximately 0.5 mile upstream of the confluence with Grassy Creek | +516
Gum Log Branch | At the confluence with Lanes Creek | +522 | Unincorporated Areas of Union County.
| Approximately 0.8 mile upstream of Jack Davis Road (SR 2125) | +586
Half Way Branch | At the confluence with Meadow Branch | +506 | Unincorporated Areas of Union County, Town of Wingate.
| Approximately 160 feet upstream of West Elm Street | +563
Haney Branch | At the confluence with Beaverdam Creek | +483 | Unincorporated Areas of Union County.
| Approximately 630 feet upstream of Old Pageland Marshville Road (SR 1937) | +520
Jacks Branch | At the confluence with Salem Creek | +412 | Unincorporated Areas of Union County.
| Approximately 0.4 mile upstream of Henry Ellis Drive | +531
Jacks Branch Tributary 1 | At the confluence with Jacks Branch | +481 | Unincorporated Areas of Union County.
| Approximately 0.4 mile upstream of the confluence with Jacks Branch | +492
Keener Branch | At the confluence with Waxhaw Creek | +513 | Unincorporated Areas of Union County.
| Approximately 0.9 mile upstream of Farmbrook Drive (State Route 1271) | +539
Lacey Branch | At the Union/Anson County boundary | +445 | Unincorporated Areas of Union County.
| Approximately 0.8 mile upstream of the confluence of Lacey Branch Tributary 2 | +506
Lacey Branch Tributary 1 | At the confluence with Lacey Branch | +479 | Unincorporated Areas of Union County.
| Approximately 1,610 feet upstream of the confluence with Lacey Branch | +496
Lacey Branch Tributary 2 | At the confluence with Lacey Branch | +481 | Unincorporated Areas of Union County.
| Approximately 650 feet upstream of Brice Griffin Road (SR 1727) | +502
Lanes Creek | Approximately 0.7 mile upstream of Hasty Road (SR 1901) | +412 | Unincorporated Areas of Union County.
| Approximately 1,310 feet upstream of Jack Davis Road (SR 2125) | +624
Lanes Creek Tributary 6 | At the confluence with Lanes Creek | +438 | Unincorporated Areas of Union County.
| Approximately 1,770 feet upstream of the confluence with Lanes Creek | +442
Lanes Creek Tributary 7 | At the confluence with Lanes Creek | +444 | Unincorporated Areas of Union County.
| Approximately 0.6 mile upstream of the confluence with Lanes Creek | +482
Lanes Creek Tributary 8 | At the confluence with Lanes Creek | +455 | Unincorporated Areas of Union County.
| Approximately 1.1 miles upstream of the confluence with Lanes Creek | +514
Lanes Creek Tributary 9 | At the confluence with Lanes Creek | +461 | Unincorporated Areas of Union County.
| Approximately 0.4 mile upstream of Smith Town Road (SR 1915) | +483
Lee Branch | At the confluence with Bates Branch | +541 | Unincorporated Areas of Union County, Town of Mineral Springs.
| Approximately 375 feet downstream of Waxhaw-Monroe Road (State Route 1111) | +618
Lee Branch Tributary 1 | At the confluence with Lee Branch | +603 | Town of Mineral Springs.
| Approximately 0.5 mile upstream of the confluence with Lee Branch | +625
Lee Branch Tributary 1A | At the confluence with Lee Branch Tributary 1 | +603 | Town of Mineral Springs.
| Approximately 1,250 feet upstream of the confluence with Lee Branch Tributary 1 | +617
Lick Branch (East) | At the confluence with Lanes Creek | +413 | Unincorporated Areas of Union County, Town of Marshville.
| Approximately 410 feet upstream of West Main Street | +557
Lick Branch (East) Tributary 1 | At the confluence with Lick Branch (East) | +493 | Unincorporated Areas of Union County, Town of Marshville.
| Approximately 1.0 mile upstream of the confluence with Lick Branch (East) | +517
Lick Branch (East) Tributary 1A | At the confluence with Lick Branch (East) Tributary 1 | +496 | Unincorporated Areas of Union County, Town of Marshville.
| Approximately 0.3 mile upstream of Traywick Road | +517
Lick Branch (West) | Approximately 230 feet upstream of the confluence with Stewarts Creek | +535 | City of Monroe.
| Approximately 170 feet upstream of U.S. Highway 74 | +586
Lick Branch (West) Tributary 1 | At the confluence with Lick Branch (West) | +576 | City of Monroe.
| Approximately 710 feet upstream of the confluence with Lick Branch (West) | +582
Little Brown Creek | At the confluence with Brown Creek | +351 | Unincorporated Areas of Union County.
| Approximately 190 feet upstream of the confluence of Wallace Branch | +396
Little Mill Creek | At the confluence with Mill Creek | +466 | Unincorporated Areas of Union County, Town of Unionville.
| Approximately 120 feet upstream of Lark Trail | +551
Little Richardson Creek | At the confluence with Richardson Creek | +495 | Unincorporated Areas of Union County, City of Monroe.
| Approximately 1,980 feet upstream of Bruce Thomas Road (SR 2132) | +604
Little Richardson Creek Tributary 1 | At the confluence with Little Richardson Creek | +495 | Unincorporated Areas of Union County, City of Monroe.
| Approximately 0.8 mile upstream of the confluence with Little Richardson Creek | +533
Little Richardson Creek Tributary 2 | At the confluence with Little Richardson Creek | +556 | Unincorporated Areas of Union County.
| Approximately 620 feet upstream of Troy Medlin Road (SR 2131) | +606
Little Richardson Creek Tributary 3 | At the confluence with Little Richardson Creek | +581 | Unincorporated Areas of Union County.
| Approximately 1.6 miles upstream of the confluence with Richardson Creek | +624
Little Twelvemile Creek | At the confluence with East Fork Twelvemile Creek | +527 | Unincorporated Areas of Union County, Town of Mineral Springs.
| Approximately 0.9 mile upstream of Crow Road | +635
Little Twelvemile Creek Tributary 1 | At the confluence with Little Twelvemile Creek | +563 | Unincorporated Areas of Union County.
| Approximately 925 feet upstream of Porter Drive (State Route 2552) | +600
Little Twelvemile Creek Tributary 2 | At the confluence with Little Twelvemile Creek | +588 | Unincorporated Areas of Union County, Town of Mineral Springs.
| Approximately 1,500 feet upstream of Old Waxhaw-Monroe Road (State Route 1149) | +626
Little Watson Branch | At the confluence with Water Branch | +314 | Unincorporated Areas of Union County.
| Approximately 250 feet downstream of NC 218 Highway | +437
Little Watson Branch Tributary 1 | At the confluence with Little Watson Branch | +341 | Unincorporated Areas of Union County.
| Approximately 360 feet upstream of Burnsville Road (SR 1714) | +418
Long Branch | At the confluence with Clear Creek | +483 | Town of Fairview.
| Approximately 0.9 mile upstream of the confluence with Clear Creek | +533
Lynches Creek | At the confluence with Rays Fork | +492 | Unincorporated Areas of Union County, City of Monroe.
| Approximately 1.1 miles upstream of Old Pageland-Monroe Road (SR 1941) | +603
Lynches River | At the North Carolina/South Carolina State boundary | +483 | Unincorporated Areas of Union County.
| Approximately 0.7 mile upstream of Circle Ranch Road (SR 2161) | +641
Lynches River Tributary 1 | At the confluence with Lynches River | +546 | Unincorporated Areas of Union County.
| Approximately 1,640 feet upstream of Trinity Church Road (SR 2166) | +583
Lynches River Tributary 2 | At the confluence with Lynches River | +609 | Unincorporated Areas of Union County.
| Approximately 0.5 mile upstream of the confluence with Lynches River | +619
Machine Branch | At the confluence with East Fork Twelvemile Creek | +517 | Unincorporated Areas of Union County.
| Approximately 780 feet downstream of Waxhaw-Indian Trail Road (State Route 1008) | +573
Maness Branch | Approximately 400 feet downstream of the Union/Anson County boundary | +436 | Unincorporated Areas of Union County.
| Approximately 1,020 feet upstream of Nance Tarlton Road (SR 1724) | +493
Maple Springs Branch | At the confluence with Beaverdam Creek | +490 | Unincorporated Areas of Union County.
| Approximately 0.9 mile upstream of Faulks Church Road (SR 1947) | +518
Marvin Branch | At the confluence with Sixmile Creek | +577 | Village of Marvin.
| Approximately 1,150 feet upstream of Saddle Avenue | +605
McBride Branch | At the confluence with Sixmile Creek | +583 | Unincorporated Areas of Union County, Village of Marvin.
| Approximately 385 feet upstream of Kentucky Derby Drive (State Route 3248) | +652
McBride Branch Tributary 1 | At the confluence with McBride Branch | +601 | Unincorporated Areas of Union County.
| Approximately 950 feet upstream of Beckford Glen Drive (State Route 2679) | +624
McNeely Branch | At the confluence with Blythe Creek | +571 | Unincorporated Areas of Union County, Town of Waxhaw.
| Approximately 1.6 miles upstream of Waxhaw Highway | +616
Meadow Branch | At the confluence with Richardson Creek | +433 | Unincorporated Areas of Union County, Town of Wingate.
| Approximately 970 feet downstream of Old Highway Road (SR 1740) | +553
Meadow Branch Tributary 1 | At the confluence with Meadow Branch | +490 | Unincorporated Areas of Union County.
| Approximately 0.7 mile upstream of McIntyre Road (SR 1631) | +550
Meadow Branch Tributary 2 | At the confluence with Meadow Branch | +503 | Unincorporated Areas of Union County.
| Approximately 180 feet downstream of Austin Chaney Road (SR 1758) | +565
Meadow Branch Tributary 3 | At the confluence with Meadow Branch | +505 | Unincorporated Areas of Union County.
| Approximately 240 feet downstream of Wade Rorie Road (SR 1788) | +549
Middle Fork | At the confluence with Rays Fork | +492 | Unincorporated Areas of Union County, City of Monroe.
| Approximately 450 feet upstream of Old Monroe Marshville Road (SR 1957) | +560
Mill Creek | At the confluence with Richardson Creek | +443 | Unincorporated Areas of Union County, Town of Unionville.
| Approximately 300 feet upstream of Supreme Drive | +516
Mill Creek (South) | At the confluence with Lanes Creek | +495 | Unincorporated Areas of Union County.
| Approximately 700 feet upstream of Budyler Road (SR 2116) | +545
Missouri Branch | At the confluence with Davis Branch | +533 | Unincorporated Areas of Union County.
| Approximately 0.6 mile upstream of Shady Oak Drive | +599
Molly Branch | At the confluence with East Fork Twelvemile Creek | +549 | Unincorporated Areas of Union County.
| Approximately 30 feet downstream of Willoughby Road (State Route 1334) | +613
Mountain Springs Branch | At the confluence with Wicker Branch | +561 | Unincorporated Areas of Union County.
| Approximately 0.4 mile upstream of Joe Griffin Road (SR 1945) | +593
Mundys Run | At the confluence with West Fork Twelvemile Creek | +535 | Unincorporated Areas of Union County, Town of Weddington.
| Approximately 0.5 mile upstream of the confluence of Mundys Run Tributary 3 | +635
Mundys Run Tributary 1 | At the confluence with Mundys Run | +562 | Town of Weddington.
| Approximately 1,130 feet upstream of Skytop Road | +613
Mundys Run Tributary 2 | At the confluence with Mundys Run | +573 | Town of Weddington.
| Approximately 0.8 mile upstream of the confluence with Mundys Run | +605
Mundys Run Tributary 3 | At the confluence with Mundys Run | +614 | Town of Weddington.
| Approximately 1,460 feet upstream of Weddington Road | +638
Norkett Branch | At the confluence with Lanes Creek | +439 | Unincorporated Areas of Union County.
| Approximately 1,510 feet downstream of Lansford Road (SR 1005) | +482
North Fork Crooked Creek | At the confluence with Crooked Creek | +570 | Unincorporated Areas of Union County, Town of Fairview, Town of Hemby Bridge, Town of Indian Trail, Town of Stallings.
| Approximately 850 feet upstream of Stevens Mill Road | +676
North Fork Crooked Creek Tributary | At the confluence with North Fork Crooked Creek | +632 | Unincorporated Areas of Union County, Town of Hemby Bridge, Town of Stallings.
| Approximately 0.7 mile upstream of Stevens Mill Road (SR 1524) | +658
North Fork Crooked Creek Tributary 1 | Approximately 0.4 mile upstream of the confluence with North Fork Crooked Creek | +590 | Unincorporated Areas of Union County, Town of Indian Trail.
| Approximately 0.5 mile upstream of Poplin Road (SR 1508) | +617
North Fork Crooked Creek Tributary 3 | At the confluence with North Fork Crooked Creek | +622 | Unincorporated Areas of Union County, Town of Hemby Bridge, Town of Indian Trail.
| Approximately 1.0 mile upstream of Stinson Hartis Road | +657
North Fork Crooked Creek Tributary 4 | At the confluence with North Fork Crooked Creek | +650 | Unincorporated Areas of Union County, Town of Indian Trail, Town of Stallings.
| Approximately 210 feet downstream of Union West Boulevard | +667
North Fork Crooked Creek Tributary 5 | At the confluence with North Fork Crooked Creek | +663 | Town of Stallings.
| Approximately 1,740 feet upstream of the confluence with North Fork Crooked Creek | +674
North Fork Crooked Creek Tributary 6 | At the confluence with North Fork Crooked Creek | +643 | Unincorporated Areas of Union County, Town of Stallings.
| Approximately 1,850 feet upstream of Stallings Road | +720
North Fork Crooked Creek Tributary A | At the confluence with North Fork Crooked Creek | +598 | Unincorporated Areas of Union County, Town of Indian Trail.
| At the downstream side of Secrest Short Cut Road (State Road 1501) | +622
North Fork Crooked Creek Tributary B | At the confluence with North Fork Crooked Creek Tributary A | +602 | Unincorporated Areas of Union County, Town of Indian Trail.
| Approximately 850 feet upstream of Secrest Short Cut Road | +619
Paddle Branch | Approximately 800 feet upstream of the confluence with Goose Creek | +526 | Unincorporated Areas of Union County, Town of Indian Trail, Town of Stallings.
| Approximately 0.6 mile upstream of Flagstick Drive | +635
Polecat Creek | At the North Carolina/South Carolina State boundary | +534 | Unincorporated Areas of Union County.
| Approximately 360 feet upstream of Irby Road (SR 2170) | +630
Polecat Creek Tributary 1 | At the confluence with Polecat Creek | +588 | Unincorporated Areas of Union County.
| Approximately 0.6 mile upstream of Carl Belk Road (SR 2168) | +610
Price Mill Creek | At the confluence with East Fork Twelvemile Creek | +548 | Unincorporated Areas of Union County, Town of Indian Trail, Village of Wesley Chapel.
| Approximately 650 feet upstream of Kennerly Drive | +650
Price Mill Creek Tributary 1 | At the confluence with Price Mill Creek | +599 | Unincorporated Areas of Union County, Town of Indian Trail.
| Approximately 100 feet upstream of Old Charlotte Highway | +646
Price Mill Creek Tributary 2 | At the confluence with Price Mill Creek | +633 | Town of Indian Trail.
| Approximately 1,400 feet upstream of the confluence with Price Mill Creek | +646
Racoon Branch | At the confluence with Buffalo Creek | +573 | Unincorporated Areas of Union County.
| Approximately 1.4 miles upstream of Trinity Church Road (SR 2166) | +623
Rays Fork | At the confluence with Richardson Creek | +461 | Unincorporated Areas of Union County, City of Monroe, Town of Wingate.
| Approximately 1,680 feet upstream of White Store Road (SR 1003) | +607
Reason Branch | At the confluence with Rocky River | +362 | Unincorporated Areas of Union County.
| Approximately 1.3 miles upstream of Morgan Academy Road (SR 1661) | +461
Reedy Branch | At the confluence with Beaverdam Creek | +515 | Unincorporated Areas of Union County.
| Approximately 0.6 mile upstream of Camden Road (SR 1934) | +554
Richardson Creek | Approximately 650 feet downstream of the Anson/Union County boundary | +294 | Unincorporated Areas of Union County, City of Monroe.
| Approximately 2.0 miles upstream of Griffith Road (SR 2139) | +635
Richardson Creek Tributary 1 | At the confluence with Richardson Creek | +377 | Unincorporated Areas of Union County.
| Approximately 180 feet upstream of Dusty Lane (SR 1718) | +394
Richardson Creek Tributary 2 | At the confluence with Richardson Creek | +377 | Unincorporated Areas of Union County.
| Approximately 1,390 feet upstream of the confluence with Richardson Creek | +399
Richardson Creek Tributary 3 | At the confluence with Richardson Creek | +382 | Unincorporated Areas of Union County.
| Approximately 0.4 mile upstream of the confluence with Richardson Creek | +397
Richardson Creek Tributary 4 | At the confluence with Richardson Creek | +384 | Unincorporated Areas of Union County.
| Approximately 1,050 feet upstream of the confluence with Richardson Creek | +395
Richardson Creek Tributary 5 | At the confluence with Richardson Creek | +403 | Unincorporated Areas of Union County.
| Approximately 830 feet upstream of New Salem Road (SR 1627) | +506
Richardson Creek Tributary 6 | At the confluence with Richardson Creek | +407 | Unincorporated Areas of Union County.
| Approximately 0.7 mile upstream of Tarlton Mill Road (SR 1649) | +441
Richardson Creek Tributary 7 | At the confluence with Richardson Creek | +416 | Unincorporated Areas of Union County.
| Approximately 1.2 miles upstream of the confluence with Richardson Creek | +495
Richardson Creek Tributary A | At the confluence with Richardson Creek | +298 | Unincorporated Areas of Union County.
| Approximately 850 feet upstream of Fish Road (SR 1706) | +335
Robin Branch | At the confluence with Booger Branch | +522 | Unincorporated Areas of Union County.
| Approximately 500 feet upstream of Shaw Avenue | +568
Rocky River | At the Anson/Stanly/Union County boundary | +302 | Unincorporated Areas of Union County, Town of Fairview.
| At the confluence of Clear Creek | +469
Rocky River Tributary 5 | At the confluence with Rocky River | +306 | Unincorporated Areas of Union County.
| Approximately 1.5 miles upstream of the confluence with Rocky River | +364
Rocky River Tributary 6 | At the confluence with Rocky River | +329 | Unincorporated Areas of Union County.
| Approximately 1,180 feet upstream of Old Kennedy Ford Road | +400
Rocky River Tributary 7 | At the confluence with Rocky River | +343 | Unincorporated Areas of Union County.
| Approximately 500 feet downstream of Old Kennedy Ford Road (SR 1711) | +429
Rone Branch | Approximately 200 feet downstream of the Lancaster County, South Carolina/Union County, North Carolina, State boundary | +507 | Unincorporated Areas of Union County.
| Approximately 0.6 mile upstream of Rehobeth Road (State Route 1107) | +591
Rone Branch Tributary 1 | At the confluence with Rone Branch | +515 | Unincorporated Areas of Union County.
| Approximately 0.7 mile upstream of the confluence with Rone Branch | +560
Salem Creek | At the confluence with Richardson Creek | +387 | Unincorporated Areas of Union County.
| Approximately 880 feet upstream of U.S. Highway 74 | +519
Salem Creek Tributary 1 | At the confluence with Salem Creek | +465 | Unincorporated Areas of Union County.
| Approximately 840 feet upstream of Angel Desse Road | +516
Salem Creek Tributary 2 | At the confluence with Salem Creek | +472 | Unincorporated Areas of Union County, Town of Marshville.
| Approximately 900 feet downstream of Austin Grove Church Road | +510
Simpson Branch | Approximately 500 feet upstream of the confluence with Cane Creek | +502 | Unincorporated Areas of Union County.
| Approximately 250 feet downstream of Huey Drive | +518
Sixmile Creek | At the Lancaster County, South Carolina/Mecklenburg and Union County, North Carolina, State boundary | +575 | Unincorporated Areas of Union County, Town of Weddington, Village of Marvin.
| Approximately 500 feet upstream of the Mecklenburg/Union County boundary | +626
Sixmile Creek Tributary 1 | At the confluence with Sixmile Creek | +579 | Unincorporated Areas of Union County, Village of Marvin.
| Approximately 920 feet upstream of Marvin Weddington Road (State Route 1316) | +630
Sixmile Creek Tributary 2 | At the confluence with Sixmile Creek | +597 | Unincorporated Areas of Union County.
| Approximately 1.2 miles upstream of the confluence with Sixmile Creek | +633
Small Branch | At the confluence with South Fork Crooked Creek | +639 | Town of Indian Trail.
| Approximately 270 feet upstream of Waxhaw-Indian Road | +668
Small Drain | At the confluence with Small Branch | +657 | Town of Indian Trail.
| Approximately 50 feet upstream of Unionville-Indian Trail Road | +669
Smith Branch | At the confluence with Grapevine Creek | +415 | Unincorporated Areas of Union County.
| Approximately 930 feet upstream of Marshville Olive Branch Road (SR 1719) | +466
South Fork Crooked Creek | At the confluence with Crooked Creek | +570 | Unincorporated Areas of Union County, City of Monroe, Town of Fairview, Town of Indian Trail, Town of Stallings, Town of Unionville.
| Approximately 1,900 feet upstream of Kelly Drive | +759
South Fork Crooked Creek Tributary 1 | At the confluence with South Fork Crooked Creek | +574 | Town of Unionville.
| Approximately 930 feet upstream of Unionville-Indian Trail Road | +602
South Fork Crooked Creek Tributary 2 | At the confluence with South Fork Crooked Creek | +589 | Unincorporated Areas of Union County.
| Approximately 900 feet upstream of Unionville-Indian Trail Road | +603
South Fork Crooked Creek Tributary 3 | At the confluence with South Fork Crooked Creek | +614 | Unincorporated Areas of Union County, Town of Indian Trail.
| Approximately 610 feet upstream of the railroad | +640
South Fork Crooked Creek Tributary 4 | Approximately 750 feet upstream of the confluence with South Fork Crooked Creek | +623 | Unincorporated Areas of Union County, Town of Indian Trail.
| Approximately 190 feet upstream of Sun Valley Drive | +629
South Fork Crooked Creek Tributary 5 | At the confluence with South Fork Crooked Creek | +629 | Town of Indian Trail, Village of Lake Park.
| Approximately 700 feet upstream of Brooktree Lane | +638
South Fork Crooked Creek Tributary 5A | At the confluence with South Fork Crooked Creek Tributary 5 | +631 | Town of Indian Trail, Village of Lake Park.
| Approximately 1,050 feet upstream of Lake Park Road | +643
South Fork Crooked Creek Tributary 6 | At the confluence with South Fork Crooked Creek | +631 | Town of Indian Trail.
| Approximately 0.4 mile upstream of Unionville-Indian Trail Road | +640
Stegall Branch | At the confluence with Richardson Creek | +357 | Unincorporated Areas of Union County.
| Approximately 1.1 miles upstream of the confluence with Richardson Creek | +416
Stewart Branch | At the confluence with Cane Creek Tributary 1 | +562 | Unincorporated Areas of Union County.
| Approximately 1,125 feet upstream of the dam | +661
Stewart Branch Tributary 1 | At the confluence with Stewart Branch | +562 | Unincorporated Areas of Union County.
| Approximately 250 feet downstream of Tom Green Road | +607
Stewarts Creek | At the confluence with Richardson Creek | +454 | Unincorporated Areas of Union County, City of Monroe.
| Approximately 280 feet downstream of Myers Road | +625
Stewarts Creek Tributary 1 | Approximately 1,000 feet upstream of the confluence with Stewarts Creek | +526 | City of Monroe.
| Approximately 650 feet upstream of Sunnybrook Drive | +567
Stewarts Creek Tributary 2 | Approximately 575 feet upstream of the confluence with Stewarts Creek | +545 | Unincorporated Areas of Union County, City of Monroe.
| Approximately 480 feet upstream of Rolling Hills Drive | +561
Stewarts Creek Tributary 3 | Approximately 550 feet upstream of the confluence with Stewarts Creek | +549 | City of Monroe.
| Approximately 230 feet downstream of Fox Hunt Drive | +572
Stewarts Creek Tributary 4 | Approximately 600 feet upstream of the confluence with Stewarts Creek | +606 | City of Monroe.
| Approximately 0.5 mile upstream of the confluence with Stewarts Creek | +619
Still Branch | At the confluence with Richardson Creek | +514 | City of Monroe.
| Approximately 0.5 mile upstream of the confluence with Richardson Creek | +521
Stumplick Branch | Approximately 250 feet upstream of the confluence with Stewarts Creek | +507 | Unincorporated Areas of Union County, Town of Unionville.
| Approximately 560 feet downstream of C. J. Thomas Road | +596
Stumplick Branch Tributary 1 | At the confluence with Stumplick Branch | +573 | Town of Unionville.
| Approximately 0.5 mile upstream of Hillcrest Church Road | +600
Tarkill Branch | At the Lancaster County, South Carolina/Union County, North Carolina, State boundary | +545 | Unincorporated Areas of Union County, Town of Weddington, Village of Marvin.
| Approximately 1.4 miles upstream of New Town Road | +644
Twelvemile Creek Tributary 1 | Approximately 500 feet upstream of the confluence with Twelvemile Creek | +502 | Unincorporated Areas of Union County, Town of Waxhaw.
| Approximately 0.5 mile upstream of Fox Hound Lane | +537
Twelvemile Creek Tributary 2 | Approximately 800 feet upstream of the confluence with Twelvemile Creek | +504 | Unincorporated Areas of Union County, Town of Waxhaw.
| Approximately 0.8 mile upstream of the confluence with Twelvemile Creek | +523
Twelvemile Creek Tributary 3 | Approximately 1,600 feet upstream of the confluence with Twelvemile Creek | +507 | Unincorporated Areas of Union County, Town of Waxhaw, Village of Marvin.
| Approximately 0.5 mile upstream of Rainbow Drive | +558
Twelvemile Creek Tributary 4 | Approximately 1,650 feet upstream of the confluence with Twelvemile Creek | +508 | Unincorporated Areas of Union County, Town of Waxhaw.
| Approximately 300 feet upstream of Waxhaw Parkway | +574
Underwood Creek | Approximately 1,500 feet upstream of the confluence with Little Twelvemile Creek | +547 | Unincorporated Areas of Union County.
| Approximately 0.8 mile upstream of New Town Road | +619
Wallace Branch | At the confluence with Little Brown Creek | +393 | Unincorporated Areas of Union County.
| Approximately 1.2 miles upstream of Cheraw Road (SR 1929) | +496
Water Branch | At the confluence with Richardson Creek | +310 | Unincorporated Areas of Union County.
| Approximately 0.8 mile upstream of NC Highway 218 | +462
Water Branch Tributary 1 | At the confluence with Water Branch | +372 | Unincorporated Areas of Union County.
| Approximately 0.5 mile upstream of the confluence with Water Branch | +395
Watson Creek | At the confluence with Richardson Creek | +412 | Unincorporated Areas of Union County.
| Approximately 1,410 feet upstream of Baucom Road | +516
Waxhaw Branch | At the confluence with Lanes Creek | +456 | Unincorporated Areas of Union County.
| Approximately 0.9 mile upstream of Synder Store Road (SR 1945) | +593
Waxhaw Branch Tributary 1 | At the confluence with Waxhaw Branch | +505 | Unincorporated Areas of Union County.
| Approximately 0.5 mile upstream of Edwards Road (SR 1943) | +534
Waxhaw Creek | Approximately 1,650 feet downstream of Maggie Robinson Road (State Route 1103) | +487 | Unincorporated Areas of Union County.
| Approximately 100 feet downstream of Lancaster Highway/State Highway 200 | +609
Waxhaw Creek Tributary 1 | At the confluence with Waxhaw Creek | +491 | Unincorporated Areas of Union County.
| Approximately 0.7 mile upstream of Mini-Ranch Road (State Route 1102) | +526
Waxhaw Creek Tributary 2 | At the confluence with Waxhaw Creek | +499 | Unincorporated Areas of Union County.
| Approximately 2.8 miles upstream of the confluence with Waxhaw Creek | +705
Waxhaw Creek Tributary 3 | At the confluence with Waxhaw Creek | +516 | Unincorporated Areas of Union County.
| Approximately 0.6 mile upstream of Winslow Drive | +539
Waxhaw Creek Tributary 4 | At the confluence with Waxhaw Creek | +555 | Unincorporated Areas of Union County.
| Approximately 1.4 miles upstream of Morrison Avenue | +616
Waxhaw Creek Tributary 5 | At the confluence with Waxhaw Creek | +559 | Unincorporated Areas of Union County.
| Approximately 0.7 mile upstream of the confluence with Waxhaw Creek | +597
Waxhaw Creek Tributary 6 | At the confluence with Waxhaw Creek | +560 | Unincorporated Areas of Union County.
| Approximately 0.7 mile upstream of the confluence with Waxhaw Creek | +583
Waxhaw Creek Tributary 7 | At the confluence with Waxhaw Creek | +565 | Unincorporated Areas of Union County.
| Approximately 1,750 feet upstream of the dam | +658
Waxhaw Creek Tributary 7A | At the confluence with Waxhaw Creek Tributary 7 | +578 | Unincorporated Areas of Union County.
| Approximately 0.4 mile upstream of Nesbit Road (State Route 1131) | +609
Waxhaw Creek Tributary 7B | At the confluence with Waxhaw Creek Tributary 7 | +583 | Unincorporated Areas of Union County.
| Approximately 0.6 mile upstream of the confluence with Waxhaw Creek Tributary 7 | +610
Waxhaw Creek Tributary 7C | At the confluence with Waxhaw Creek Tributary 7 | +591 | Unincorporated Areas of Union County, Town of Waxhaw.
| Approximately 0.5 mile upstream of Parkwood School Road | +613
West Fork Twelvemile Creek | At the upstream side of Cuthbertson Road (State Route 1321) | +514 | Unincorporated Areas of Union County, Village of Wesley Chapel, Town of Indian Trail, Town of Stallings, Town of Waxhaw, Town of Weddington.
| Approximately 1,070 feet upstream of the confluence of West Fork Twelvemile Creek Tributary 4 | +680
West Fork Twelvemile Creek Tributary 1 | At the confluence with West Fork Twelvemile Creek | +526 | Unincorporated Areas of Union County, Town of Waxhaw, Town of Weddington.
| Approximately 0.4 mile upstream of New Town Road (State Route 1315) | +634
West Fork Twelvemile Creek Tributary 1A | At the confluence with West Fork Twelvemile Creek Tributary 1 | +536 | Unincorporated Areas of Union County, Town of Waxhaw.
| Approximately 0.8 mile upstream of the confluence with West Fork Twelvemile Creek Tributary 1 | +576
West Fork Twelvemile Creek Tributary 2 | At the confluence with West Fork Twelvemile Creek | +587 | Unincorporated Areas of Union County, Town of Weddington.
| Approximately 700 feet upstream of the dam | +681
West Fork Twelvemile Creek Tributary 2A | At the confluence with West Fork Twelvemile Creek Tributary 2 | +638 | Town of Weddington.
| Approximately 1,790 feet upstream of the confluence with West Fork Twelvemile Creek Tributary 2 | +653
West Fork Twelvemile Creek Tributary 2B | At the confluence with West Fork Twelvemile Creek Tributary 2 | +661 | Town of Weddington.
| Approximately 960 feet upstream of the confluence with West Fork Twelvemile Creek Tributary 2 | +673
West Fork Twelvemile Creek Tributary 3 | At the confluence with West Fork Twelvemile Creek | +657 | Unincorporated Areas of Union County, Town of Indian Trail, Town of Stallings.
| Approximately 520 feet upstream of Fairforest Drive | +684
West Fork Twelvemile Creek Tributary 4 | At the confluence with West Fork Twelvemile Creek | +672 | Unincorporated Areas of Union County, Town of Indian Trail, Town of Stallings.
| At the Mecklenburg/Union County boundary | +690
Wicker Branch | At the confluence with Lanes Creek | +475 | Unincorporated Areas of Union County.
| Approximately 0.7 mile upstream of U.S. Highway 601 | +597
Wide Mouth Branch | At the Anson/Union County boundary | +406 | Unincorporated Areas of Union County.
| Approximately 510 feet upstream of Old Peachland Street (SR 1735) | +493
* National Geodetic Vertical Datum.
+ North American Vertical Datum.
# Depth in feet above ground.
ADDRESSES
City of Monroe
Maps are available for inspection at City of Monroe Planning Department, 300 West Crowell Street, Monroe, North Carolina.
Town of Fairview
Maps are available for inspection at Fairview Town Hall, 7608 Concord Highway, Monroe, North Carolina.
Town of Hemby Bridge
Maps are available for inspection at Hemby Bridge Town Hall, 5811 Fairview-Indian Trail Road, Hemby Bridge, North Carolina.
Town of Indian Trail
Maps are available for inspection at Indian Trail Planning Department, 109 Navejo Trail Road, Indian Trail, North Carolina.
Town of Marshville
Maps are available for inspection at Marshville Town Hall, 201 West Main Street, Marshville, North Carolina.
Town of Mineral Springs
Maps are available for inspection at Town of Mineral Springs Volunteer Fire and Rescue Department, 5804 Waxhaw Highway, Mineral Springs, North Carolina.
Town of Stallings
Maps are available for inspection at Stallings Town Hall, 315 Stallings Road, Stallings, North Carolina.
Town of Unionville
Maps are available for inspection at Unionville Town Hall, 1102 Unionville Church Road, Monroe, North Carolina.
Town of Waxhaw
Maps are available for inspection at Waxhaw Town Hall, 317 North Broome Street, Waxhaw, North Carolina.
Town of Weddington
Maps are available for inspection at Weddington Town Hall, 1924 Weddington Road, Weddington, North Carolina.
Town of Wingate
Maps are available for inspection at Wingate Town Hall, 3918 Highway 74 East, Wingate, North Carolina.
Village of Lake Park
Maps available for inspection at the Union County Planning Office, 407 North Main Street, Monroe, North Carolina.
Village of Marvin
Maps available for inspection at the Marvin Village Hall, 10004 New Town Road, Marvin, North Carolina.
Village of Wesley Chapel
Maps available for inspection at the Village of Wesley Chapel Town Hall, 1101 A Airport Road, Monroe, North Carolina.
Unincorporated Areas of Union County
Maps are available for inspection at Union County Planning Department, 407 North Main Street, Room 149, Monroe, North Carolina.

(Catalog of Federal Domestic Assistance No. 97.022, “Flood Insurance.”)

Dated: April 29, 2008.
David I. Maurstad,
Federal Insurance Administrator of the National Flood Insurance Program, Department of Homeland Security, Federal Emergency Management Agency.

[FR Doc. E8-10114 Filed 5-6-08; 8:45 am]

BILLING CODE 9110-12-P